DEPARTMENT OF JUSTICE

Notice of Lodging of Consent Decree Under The Comprehensive Environmental Response, Compensation, and Liability Act (CERCLA)

Under section 122(i) of CERCLA, 42 U.S.C 9622(i), and 28 CFR 50.7 notice is hereby given that on April 7, 2004, a proposed Consent Decree (“Decree”) in United States v. GTE Operations Support Incorporated et al, Civil Action No. 04-1644 was lodged with the United States District Court for the District of New Jersey.

In this action the United States seeks to recover past costs with respect to the A.O. Polymer Superfund Site located in Sparta Township, Sussex County, New Jersey (the “Site”), as well as a declaratory judgment of liability with respect to future costs to be incurred by the United States at the Site. Pursuant to the terms of the proposed Decree, the three de minimis defendants have agreed to pay the United States $81,667.30 within 30 days of the Court's entry of the Decree, plus interest on this amount at the CERCLA rate of interest if they fail to pay the amount within the 30 days. The United States will also provide the defendants with a covenant not to sue, pursuant to Sections 106 and 107(a) of CERCLA, 42 U.S.C. 9606 and 9607(a), with regard to the Site.

The Department of Justice will receive for a period of thirty (30) days from the date of this publication comments relating to the Decree. Comments should be addressed to the Assistant Attorney General, Environment and Natural Resources Division, P.O. Box 7611, U.S. Department of Justice, Washington, DC 20044-7611, and should refer to United States v. GTE Operations Support Incorporated et al, D.J. Ref. 90-11-07174.

The Decree may be examined at the Office of the United States Attorney, 970 Broad Street, Suite 700, and at U.S. EPA Region 2, 290 Broadway New York, New York. During the public comment period, the Decree may also be examined on the following Department of Justice Web site, http://www.usdoj.gov/enrd/open.html. A copy of the Decree may further be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.00 (25 cents per page reproduction cost) payable to the U.S. Treasury.

Ronald Gluck,
Assistant Chief, Environmental Enforcement Section, Environment and Natural Resources Division.

[FR Doc. 04-9095 Filed 4-21-04; 8:45 am]

BILLING CODE 4410-15-M